ENVIRONMENTAL PROTECTION AGENCY

[FRL-6926-5]

Agency Information Collection Activities: Submission for OMB Review; Comment Request; Marine Engine Manufacturer-Based In-Use Emission Testing Program

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Marine Engine Manufacturer-Based In-Use Emission Testing Program, OMB Control No. 2060-0322, expiration date December 31, 2000. The ICR describes the nature of the information collection and its expected burden and cost; where appropriate, it includes the actual data collection instrument.

DATES: Comments must be submitted on or before January 29, 2001.

ADDRESSES: Send comments, referencing EPA ICR No. 1726.03 and OMB Control No. 2060-0322, to the following addresses: Sandy Farmer, U.S. Environmental Protection Agency, Collection Strategies Division (Mail Code 2822), 1200 Pennsylvania Avenue, N.W., Washington, DC 20460; and to Office of Information and Regulatory Affairs, Office of Management and Budget (OMB), Attention: Desk Officer for EPA, 725 17th Street, N.W., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 1726.03. For technical questions about the ICR contact Dennis Johnson, Engine Programs Group, Certification and Compliance Division, Office of Transportation and Air Quality at 202-564-9278 or by e-mail at johnson.dennis@epa.gov.

SUPPLEMENTARY INFORMATION: Title: Marine Engine Manufacturer-Based In-Use Emission Testing Program (OMB Control No. 2060-0322; EPA ICR No. 1726.03), expiring December 31, 2000. This is a request for extension of a currently approved collection.

Abstract: This information collection requires manufacturers of marine engines to generate and submit quarterly reports of engine information and emissions data generated in the manufacturer's own in-use testing program. The Engine Programs Group in the Certification and Compliance Division, Office of Transportation and Air Quality, Office of Air and Radiation will collect this information and evaluate it to determine whether in-use marine engines comply with the emission standards set forth in the regulations at 40 CFR part 91.

The results of the manufacturers in-use testing program will primarily be used by the Office of Transportation and Air Quality to verify compliance of in-use marine engines; however, emissions data generated during this testing becomes public information after the testing programs are concluded. Consequently, States and localities may also use data generated in mobile source emission inventory estimates. Additionally, the Certification and Compliance Division will use the exhaust emission data from this testing to evaluate the appropriateness of the certification process.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on August 31, 2000 (65 FR 53005); no comments were received.

Burden Statement: The annual public reporting and recordkeeping burden for this collection of information is estimated to average 153 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Marine engine manufacturers.

Estimated Number of Respondents: 10.

Frequency of Response: Quarterly.

Estimated Total Annual Hour Burden: 10,405 hours.

Estimated Total Annualized Capital, Operating/ Maintenance Cost Burden: $694,080.

Send comments on the Agency's need for this information, the accuracy of the provided burden estimates, and any suggested methods for minimizing respondent burden, including through the use of automated collection techniques to the addresses listed above. Please refer to EPA ICR No.1726.03 and OMB Control No. 2060-0323 in any correspondence.

Dated: December 19, 2000.
Oscar Morales,
Director, Collection Strategies Division.

[FR Doc. 00-33352 Filed 12-28-00; 8:45 am]

BILLING CODE 6560-50-P